DEPARTMENT OF HOMELAND SECURITY

[Docket No. DHS-2010-0094]

National Protection and Programs Directorate; National Infrastructure Advisory Council Meeting

AGENCY: National Protection and Programs Directorate, DHS.

ACTION: Committee Management; Notice of Federal Advisory Council Meeting.

SUMMARY: The National Infrastructure Advisory Council (NIAC) will meet on Tuesday, January 18, 2011, at the JW Marriott Washington DC, Salon I, 1331 Pennsylvania Avenue, NW., Washington, DC 20004.

DATES: The NIAC will meet Tuesday, January 18, 2011, from 1:30 p.m. to 4:30 p.m. The meeting may close early if the committee has completed its business. For additional information, please consult the NIAC Web site, http://www.dhs.gov/niac, or contact the NIAC Secretariat by phone at 703-235-2888 or by e-mail at NIAC@dhs.gov.

ADDRESSES: The meeting will be held at the JW Marriott Washington DC, Salon I, 1331 Pennsylvania Avenue, NW., Washington, DC 20004.

SUPPLEMENTARY INFORMATION: Notice of this meeting is given under the Federal Advisory Committee Act, 5 U.S.C. App. (Pub. L. 92-463). The NIAC shall provide the President through the Secretary of Homeland Security with advice on the security of the critical infrastructure sectors and their information systems.

The NIAC will meet to address issues relevant to the protection of critical infrastructure as directed by the President. At this meeting the committee will receive work from a NIAC working group to review, deliberate on, and provide further direction to the working group.

Meeting Agenda:

I. Opening of Meeting

II. Roll Call of Members

III. Opening Remarks and Introductions

IV. Approval of October 19, 2010, Minutes

V. Deliberation: Information Sharing Study

VI. Public Comment

VII. Closing Remarks

VIII. Adjournment

Procedural:

While this meeting is open to the public, participation in the NIAC deliberations is limited to committee members and appropriate Federal Government officials. Discussions may include committee members, appropriate Federal Government officials, and other invited persons attending the meeting to provide information that may be of interest to the Council.

Immediately following the committee member deliberation and discussion period, there will be a limited time period for public comment on listed agenda items only. Relevant public comments may be submitted in writing or presented in person for the Council to consider. Off-topic questions or comments will not be permitted or discussed. In-person presentations will be limited to three minutes per speaker, with no more than 30 minutes for all speakers. Parties interested in making in-person comments must register no less than 15 minutes prior to the beginning of the meeting at the meeting location. Oral comments will be permitted based upon the order of registration; all registrants may not be able to speak if time does not permit. Written comments may be sent to Nancy Wong, Department of Homeland Security, National Protection and Programs Directorate, 245 Murray Lane, Mail Stop 0607, Washington, DC 20528-0607. Written comments must be received by Nancy Wong no later than January 11, 2011, identified by Federal Register Docket Number DHS-2010-0094, and may be submitted by any one of the following methods:

• Federal eRulemaking Portal: http://www.regulations.gov. Follow the instructions for submitting written comments.

• E-mail: NIAC@dhs.gov. Include the docket number in the subject line of the message.

• Fax: 703-603-5098.

• Mail: Nancy Wong, National Protection and Programs Directorate, Department of Homeland Security, 245 Murray Lane, Mail Stop 0607, Washington, DC 20528-0607.

Instructions: All written submissions received must include the words “Department of Homeland Security” and the docket number for this action. Written comments received will be posted without alteration at http://www.regulations.gov, including any personal information provided.

Docket: For access to the docket to read background documents or comments received by the NIAC, go to http://www.regulations.gov.

Information on Services for Individuals with Disabilities:

For information on facilities or services for individuals with disabilities or to request special assistance at the meeting, contact the NIAC Secretariat at 703-235-2888 as soon as possible.

FOR FURTHER INFORMATION CONTACT: Nancy Wong, National Infrastructure Advisory Council Designated Federal Officer, Department of Homeland Security, telephone 703-235-2888.

Signed: December 17, 2010.
Nancy J. Wong,
Designated Federal Officer for the NIAC.

[FR Doc. 2010-32347 Filed 12-23-10; 8:45 am]

BILLING CODE 9110-9P-P